DEPARTMENT OF COMMERCE

National Oceanic and Atmospheric Administration

50 CFR Part 635

[Docket No. 140429387-4971-02]

RIN 0648-XE334

Atlantic Highly Migratory Species; Commercial Non-Blacknose Small Coastal Sharks in the Gulf of Mexico Region

AGENCY: National Marine Fisheries Service (NMFS), National Oceanic and Atmospheric Administration (NOAA), Commerce.

ACTION: Temporary rule; closure.

SUMMARY: NMFS is closing the fishery for commercial non-blacknose small coastal sharks (SCS) in the Gulf of Mexico region. This action is necessary because the commercial landings of Gulf of Mexico non-blacknose SCS for the 2015 fishing season are projected to exceed 80 percent of the available commercial quota as of November 27, 2015.

DATES: The commercial fishery for non-blacknose SCS in the Gulf of Mexico region is closed effective 11:30 p.m. local time December 5, 2015, until the end of the 2015 fishing season on December 31, 2015, and will reopen on January 1, 2016.

FOR FURTHER INFORMATION CONTACT: Guy DuBeck or Karyl Brewster-Geisz 301-427-8503; fax 301-713-1917.

SUPPLEMENTARY INFORMATION: The Atlantic and Gulf of Mexico shark fisheries are managed under the 2006 Consolidated Highly Migratory Species (HMS) Fishery Management Plan (FMP), its amendments, and its implementing regulations (50 CFR part 635) issued under authority of the Magnuson-Stevens Fishery Conservation and Management Act (16 U.S.C. 1801 et seq.).

Under § 635.5(b)(1), dealers must report weekly on sharks they first receive from vessels through a NMFS-approved electronic reporting system. Under § 635.28(b)(2), when NMFS calculates that the landings for any species and/or management group with a “non-linked” quota has reached or is projected to reach 80 percent of the available quota, NMFS will file for publication with the Office of the Federal Register a notice of closure that will be effective no fewer than 5 days from date of filing. From the effective date and time of the closure until and if NMFS announces, via a notification in the Federal Register, that additional quota is available and the season is reopened, the fisheries remain closed, even across fishing years.

On December 2, 2014 (79 FR 71331), NMFS announced that the 2015 commercial Gulf of Mexico non-blacknose SCS quota was 45.5 metric tons (mt) dressed weight (dw) (100,317 lb dw), while and the blacknose shark quota was 1.8 mt dw (4,076 lb dw). Dealer reports received through June 26, 2015, indicated that 36.9 mt dw or 81 percent of the available Gulf of Mexico non-blacknose SCS quota had been landed and 1.0 mt dw or 52 percent of the available Gulf of Mexico blacknose shark quota had been landed. Since the dealer landings of non-blacknose SCS exceeded 80 percent of the quota, and the non-blacknose SCS and blacknose shark fisheries were quota-linked, NMFS closed the blacknose shark and non-blacknose SCS fisheries on July 4, 2015 (80 FR 38016; July 2, 2016).

On August 18, 2015 (80 FR 50073), NMFS published the final rule for Amendment 6 to the 2006 Consolidated HMS FMP which, among other things, established a new Gulf of Mexico non-blacknose SCS commercial quota of 112.6 mt dw (248,215 lb dw), prohibited the retention of blacknose sharks in the Gulf of Mexico, and removed the quota linkage between the blacknose shark fishery and the non-blacknose SCS commercial fishery. At that time, NMFS estimated that approximately 66.4 mt dw of the new Gulf of Mexico non-blacknose SCS commercial quota was available and re-opened the Gulf of Mexico non-blacknose SCS commercial fishery. Dealer reports received through November 20, 2015, indicated that a total of 89.4 mt dw or 79 percent of the available Gulf of Mexico non-blacknose SCS commercial quota had been landed. Based on these dealer reports, NMFS estimates that the 80 percent limit specified for closure will be exceeded by November 27, 2015. Accordingly, NMFS is closing the commercial non-blacknose SCS management group in the Gulf of Mexico region as of 11:30 p.m. local time December 5, 2015. The only shark species or management groups that remain open in the Gulf of Mexico region are the research large coastal sharks, sandbar sharks within the shark research fishery, the blue shark, and pelagic sharks other than porbeagle or blue shark management groups.

At § 635.27(b)(1), the boundary between the Gulf of Mexico region and the Atlantic region is defined as a line beginning on the East Coast of Florida at the mainland at 25°20.4′ N. latitude, proceeding due east. Any water and land to the south and west of that boundary is considered, for the purposes of monitoring and setting quotas, to be within the Gulf of Mexico region.

During the closure, retention of non-blacknose SCS in the Gulf of Mexico region is prohibited for persons fishing aboard vessels issued a commercial shark limited access permit (LAP) under § 635.4. However, persons aboard a commercially permitted vessel that is also properly permitted to operate as a charter vessel or headboat for HMS and is engaged in a for-hire trip could fish under the recreational retention limits for sharks and “no sale” provisions (§ 635.22(a) and (c)).

During this closure, a shark dealer issued a permit pursuant to § 635.4 may not purchase or receive non-blacknose SCS in the Gulf of Mexico region from a vessel issued a shark LAP, except that a permitted shark dealer or processor may possess non-blacknose SCS in the Gulf of Mexico region that were harvested, off-loaded, and sold, traded, or bartered prior to the effective date of the closure and were held in storage consistent with § 635.28(b)(6). Similarly, a shark dealer issued a permit pursuant to § 635.4 may, in accordance with relevant state regulations, purchase or receive non-blacknose SCS in the Gulf of Mexico region if the sharks were harvested, off-loaded, and sold, traded, or bartered from a vessel that fishes only in state waters and that has not been issued a shark LAP, HMS Angling permit, or HMS Charter/Headboat permit pursuant to § 635.4.

Classification

Pursuant to 5 U.S.C. 553(b)(B), the Assistant Administrator for Fisheries, NOAA (AA), finds that providing prior notice and public comment for this action is impracticable and contrary to the public interest because the fisheries are currently underway and any delay in this action would result in overharvest of the Gulf of Mexico non-blacknose SCS quota and be inconsistent with management requirements and objectives. Similarly, affording prior notice and opportunity for public comment on this action is contrary to the public interest because if the quota is exceeded, the stock may be negatively affected and fishermen ultimately could experience reductions in the available quota and a lack of fishing opportunities in future seasons. For these reasons, the AA also finds good cause to waive the 30-day delay in effective date pursuant to 5 U.S.C. 553(d)(3). This action is required under § 635.28(b)(2) and is exempt from review under Executive Order 12866.

Authority: 16 U.S.C. 1801 et seq.

Dated: November 27, 2015.
Emily H. Menashes,
Acting Director, Office of Sustainable Fisheries, National Marine Fisheries Service.

[FR Doc. 2015-30540 Filed 11-30-15; 4:15 pm]

BILLING CODE 3510-22-P